DEPARTMENT OF HEALTH AND HUMAN SERVICES

Centers for Medicare & Medicaid Services

[Document Identifier CMS-10298 and CMS-R-142]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: Developing Outpatient Therapy Payment Alternatives; Use: In Section 545 of the Benefits Improvement and Protection Act (BIPA) of 2000, the Congress required the Secretary of the Department of Health and Human Services to report on the development of standardized assessment instruments for outpatient therapy. Currently, CMS does not collect these data. The purpose of this project is to identify, collect, and analyze therapy-related information tied to beneficiary need and the effectiveness of outpatient therapy services that is currently unavailable to CMS. The immediate goals are to develop and assess the feasibility of a comprehensive and uniform therapy-related data collection instrument and to determine the subset of the measures that CMS can routinely and reliably collect in support of payment alternatives. The ultimate goal is to develop payment method alternatives to the current financial cap on Medicare outpatient therapy services.

CMS made over 20 changes and improvements to the CARE-C and CARE-F instruments. Many revisions were minor word changes or clarifications to item coding instructions. The revised version of CARE retains its clinical integrity while allowing for greater response specificity. Form Number: CMS-10298 (OMB#: 0938—New); Frequency: Reporting—Daily; Affected Public: Business or other for-profit and Not-for-profit institutions; Number of Respondents: 190; Total Annual Responses: 38,632; Total Annual Hours: 14,271. (For policy questions regarding this collection contact David Bott at 410-786-0249. For all other issues call 410-786-1326.)

2. Type of Information Collection Request: Extension of a currently approved collection; Title of Information Collection: Examination and Treatment for Emergency Medical Conditions and Women Labor (EMTALA), 42 CFR 482.12, 488.18, 489.20, and 489.24; Use: This collection contains the requirements for hospitals in effort to prevent them from inappropriately transferring individuals with emergency medical conditions, as mandated by Congress. CMS uses this information to help assure compliance not contained elsewhere in regulations. Form Number: CMS-R-142 (OMB#: 0938-0667); Frequency: Daily; Affected Public: Individuals or households, Private Sector; Number of Respondents: 6,149; Total Annual Responses: 6,149; Total Annual Hours: 1. (For policy questions regarding this collection contact Renate Rockwell at 410-786-1326. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on May 24, 2010.

OMB, Office of Information and Regulatory Affairs, Attention: CMS Desk Officer, Fax Number: (202) 395-6974, E-mail: OIRA_submission@omb.eop.gov.

Dated: April 15, 2010.
Michelle Shortt,
Director, Regulations Development Group, Office of Strategic Operations and Regulatory Affairs.

[FR Doc. 2010-9501 Filed 4-22-10; 8:45 am]

BILLING CODE 4120-01-P